DEPARTMENT OF LABOR

Pension and Welfare Benefits Administration

Proposed Extension of Information Collection; Comment Request; Prohibited Transaction Class Exemption 78-6

ACTION: Notice.

SUMMARY: The Department of Labor (Department), as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This helps to ensure that requested data can be provided in the desired format, reporting burden (time and financial resources) is minimized, collection instruments are clearly understood, and the impact of collection requirements on respondents can be properly assessed.

Currently, the Pension and Welfare Benefits Administration is soliciting comments concerning the proposed extension of the information collection provisions of Prohibited Transaction Class Exemption 78-6. A copy of the Information Collection Request (ICR) may be obtained by contacting the office listed in the addresses section of this notice.

DATES: Written comments must be submitted to the office shown in the addresses section below on or before March 24, 2000.

ADDRESSES: Gerald B. Lindrew, Office of Policy and Research, U.S. Department of Labor, Pension and Welfare Benefits Administration, 200 Constitution Avenue, NW, Room N-5647, Washington, D.C. 20210. Telephone: (202) 219-4782; Fax: (202) 219-4745. These are not toll-free numbers.

SUPPLEMENTARY INFORMATION:

I. Background

Prohibited Transaction Class Exemption 78-6 allows a multiple employer welfare benefit plan maintained for the purpose of providing apprenticeship or other training programs (apprenticeship plan) to (1) purchase personal property and (2) lease personal property or real property (other than office space as described in section 408(b)(2) of the Employee Retirement Income Security Act of 1974 (ERISA)) from an employer who makes contributions to an apprenticeship plan (contributing employer), from a wholly-owned subsidiary of a contributing employer, or from an employee organization any of whose members' work results in contributions being made to the apprenticeship plan. In the absence of this exemption, sections 406(a)(1) (A), (C) and (D) of ERISA might prohibit part or all of these transactions.

II. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Action

This existing information collection should be continued because without this exemption, apprenticeship plans would have difficulty operating in accordance with the purposes for which they were established. For the Department to grant an exemption, however, it is required by the provisions of section 408(a) of ERISA to ensure the participants and beneficiaries are protected. It, therefore, included certain conditions and required that records be kept for six years from the date of the transaction so that the Department, contributing employers and their employees, the sponsoring employee organization, and plan participants can determine whether these conditions have been met. Without such records, the Department and other interested parties would be unable to enforce the terms of the exemption and ensure user compliance.

Type of Review: Extension of a currently approved collection of information.

Agency: Pension and Welfare Benefits Administration, Department of Labor

Titles: Prohibited Transaction Class Exemption 78-6

OMB Number: 1210-0080

Affected Public: Individuals or households; Business or other for-profit; Not-for-profit institutions

Estimated Total Burden Hours: 417

Respondents: 1,000

Frequency of Response: On occasion.

Responses: 5,000.

Annual hour burden: 5 minutes.

Total Burden Cost (Operating and Maintenance): $0.00.

Comments submitted in response to this notice will be summarized and/or included in the request for OMB approval of the information collection request; they will also become a matter of public record.

Dated: January 19, 2000.
Gerald B. Lindrew,
Deputy Director, Office of Policy and Research Pension and Welfare Benefits Administration.

[FR Doc. 00-1638 Filed 1-21-00; 8:45 am]

BILLING CODE 4510-29-M